DEPARTMENT OF HEALTH AND HUMAN SERVICES

Centers for Medicare & Medicaid Services

Privacy Act of 1974; Matching Program

AGENCY: Centers for Medicare & Medicaid Services (CMS), Department of Health and Human Services (HHS).

ACTION: Notice of a new matching program.

SUMMARY: In accordance with subsection (e)(12) of the Privacy Act of 1974, as amended, the Department of Health and Human Services (HHS), Centers for Medicare & Medicaid Services (CMS) is providing notice of a new matching program between CMS and the Department of the Treasury (Treasury), Internal Revenue Service (IRS), “Verification of Household Income and Family Size for Insurance Affordability Programs and Exemptions.” The new matching program will commence under a new agreement when the agreement for the existing matching program expires in April 2025.

DATES: The deadline for comments on this notice is January 22, 2025. The new matching program will commence not sooner than 30 days after publication of this notice, provided no comments are received that warrant a change to this notice. The matching program will be conducted for an initial term of 18 months (from April 5, 2025 to October 4, 2026) and within 3 months of expiration may be renewed for up to one additional year if the parties make no change to the matching program and certify that the program has been conducted in compliance with the matching agreement.

ADDRESSES: Interested parties may submit comments on this notice to the CMS Privacy Act Officer by mail at: Division of Security, Privacy Policy & Governance, Information Security & Privacy Group, Office of Information Technology, Centers for Medicare & Medicaid Services, Location: N1-14-56, 7500 Security Blvd., Baltimore, MD 21244-1850, or by email to Barbara.Demopulos@cms.hhs.gov.

FOR FURTHER INFORMATION CONTACT: If you have questions about the matching program, you may contact Anne Pesto, Senior Advisor, Marketplace Eligibility and Enrollment Group, Center for Consumer Information and Insurance Oversight, Centers for Medicare & Medicaid Services, at 667-290-9486, by email at anne.pesto@cms.hhs.gov, or by mail at 7500 Security Blvd., Baltimore, MD 21244.

SUPPLEMENTARY INFORMATION: The Privacy Act of 1974, as amended (5 U.S.C. 552a) provides certain protections for individuals applying for and receiving Federal benefits. The law governs the use of computer matching by Federal agencies when records in a system of records (meaning, Federal agency records about individuals retrieved by name or other personal identifier) are matched with records of other Federal or non-Federal agencies. The Privacy Act requires agencies involved in a matching program to:

1. Enter into a written agreement, which must be prepared in accordance with the Privacy Act, approved by the Data Integrity Board of each source and recipient Federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o) (2)(A)(i), (r), and (u)(3)(D).

5. Publish advance notice of the matching program in the Federal Register as required by 5 U.S.C. 552a(e)(12).

This matching program meets these requirements.

Barbara Demopulos,
Privacy Act Officer, Division of Security, Privacy Policy and Governance, Office of Information Technology, Centers for Medicare & Medicaid Services.

Participating Agencies

The Department of Health and Human Services (HHS), Centers for Medicare & Medicaid Services (CMS) is the recipient agency, and the Department of the Treasury (Treasury), Internal Revenue Service (IRS) is the source agency.

Authority for Conducting the Matching Program

The authority for the matching program is 42 U.S.C. 18001, et seq.

Purpose(s)

The purpose of the matching program is to provide CMS with IRS Federal tax information which CMS and State-based administering entities (AEs) will use to verify household income and family size for applicants and enrollees receiving eligibility determinations and redeterminations for benefits under the Patient Protection and Affordable Care Act (PPACA), including: enrollment in a Qualified Health Plan (QHP) or a State's Basic Health Plan (BHP) through the federally-facilitated Exchange (FFE) or a State-based Exchange (SBE); advance payments of the premium tax credit (APTC); a cost sharing reduction (CSR); enrollment in Medicaid and the Children's Health Insurance Program (CHIP); and certain certificates of exemption.

Categories of Individuals

The individuals whose information will be used in the matching program are consumers (applicants and enrollees) who receive the eligibility determinations and redeterminations described in the preceding Purpose(s) section (in particular, taxpayers whose Federal tax information is requested from IRS to verify an applicant's or enrollee's household income and family size).

Categories of Records

The categories of records used in the matching program are identity information and Federal tax information (specifically, household income and family size information). To request Federal tax information from IRS, CMS will provide IRS with the relevant taxpayer's name, social security number (SSN), and relationship to the applicant(s) or enrollee(s) (i.e., primary, spouse, or dependent). When IRS is able to match the SSN and name provided by CMS and Federal tax information is available, IRS will disclose to CMS the following items of Federal tax information with respect to that taxpayer:

1. SSN;

2. family size;

3. filing status;

4. modified adjusted gross income (MAGI);

5. taxable Social Security benefits;

6. adjusted gross income (AGI) for adjusted tax returns;

7. taxable year with respect to which the preceding information relates or, if applicable, the fact that such information is not available; and

8. any other specified item of Federal tax information (FTI) authorized pursuant to 26 U.S.C. 6103(1)(21) and its implementing regulations.

System(s) of Records

The records used in this matching program will be disclosed from the following systems of records, as authorized by routine uses published in the System of Records Notices (SORNs) cited below:

A. System of Records Maintained by CMS

• CMS Health Insurance Exchanges System (HIX), CMS System No. 09-70-0560, last published in full at 78 FR 63211 (Oct. 23, 2013), as amended at 83 FR 6591 (Feb. 14, 2018).

B. System of Records Maintained by IRS

• FTI Treasury/IRS 24.030, published at 80 FR 54064 (Sept. 8, 2015).

[FR Doc. 2024-30522 Filed 12-20-24; 8:45 am]

BILLING CODE 4120-03-P